DEPARTMENT OF AGRICULTURE

Economic Research Service

Agency Information Collection Activities: Comment Request

AGENCY: Economic Research Service (ERS), Department of Agriculture (USDA).

ACTION: Notice of information collection; request to comment.

SUMMARY: In accordance with the Paperwork Reduction Act of 1995, ERS is proposing a new information collection to study consumer's willingness to pay to prevent health effects of foodborne illness, “Foodborne Illness Prevention Valuation Survey.”

DATES: Written comments on this notice must be received by May 28, 2024 to be assured of consideration. Comments received after that date will be considered to the extent practicable. Send comments to the address below.

ADDRESSES: Address all comments concerning this notice to julie.parker3@usda.gov and ers.pra@usda.gov identified by docket number 0536-NEW.

FOR FURTHER INFORMATION CONTACT: Requests for additional information or copies of this information collection should be directed to Julie Parker at ers.pra@usda.gov or 202-868-7945.

SUPPLEMENTARY INFORMATION:

Title of collection: Foodborne Illness Prevention Valuation Survey.

OMB Control Number: 0536-NEW.

Type of Request: A new information collection.

Abstract:

Collection of Information for Foodborne Illness Prevention Valuation Survey

The proposed data collection will survey U.S. consumers to study the value consumers place on preventing pain and suffering from foodborne illnesses and their long-term outcomes. The survey sample will be drawn from a panel of individuals recruited to be representative of the U.S. public. USDA Food Safety and Inspection Service uses these estimates in cost-benefit analysis of proposed food safety regulations. They also use information on the value consumers place on avoiding a range of foodborne illnesses to help inform food safety program priorities.

This stated preference survey will enhance understanding of the value the public places on preventing foodborne illness. Like other cost of illness research, current cost of foodborne illness estimates includes cost of medical treatment, the value of lost time, and willingness to pay to reduce risk of death, but do not include the value consumers place on preventing the physical, emotional and social burden experienced from these illnesses. Economic theory supports the utility of measuring consumer willingness to pay for these non-monetary benefits of health protection, as demonstrated by recent survey research in the United Kingdom and Australia. The proposed survey project will build upon these efforts.

Participation in the survey will be voluntary. Respondents will be recruited online and will respond to an online survey. Data will be analyzed using discrete choice models to estimate consumers' willingness to pay to prevent pain and suffering from foodborne illnesses and their long-term outcomes. Results from the survey will provide the first U.S. estimates of consumer willingness to pay to prevent pain and suffering from foodborne illnesses. Results will be published in academic journals and Federal research reports. This will help ensure stakeholder and public access to results regarding the benefits of food safety programs. This work will also inform future studies on valuing prevention of foodborne illness.

Authority: These data will be collected under the authority of US Code (U.S.C.) 7 U.S.C. 2204(a) General duties of Secretary, advisory functions, research and development and 7 U.S.C 6971, Under Secretary of Agriculture for Research, Education, and Economics, as implemented under the Code of Federal Regulations (CFR) 7 CFR 2.21 which delegates to the Under Secretary, as Chief Scientist, the responsibility for agricultural systems and technology, including emerging agricultural research, education, and extension needs. This Notice is submitted in accordance with the Paperwork Reduction Act of 1995 (at 44 U.S.C. 3501, et seq.) and Office of Management and Budget regulations at 5 CFR part 1320. 5 CFR part 1320.

Confidentiality: All ERS employees and ERS contractors must also fully comply with all provisions of the Confidential Information Protection and Statistical Efficiency Act (CIPSEA) of 2018, Title III of Public Law 115-435, codified in 44 U.S.C. ch. 35.

Estimate of Burden: The burden for this collection of information is estimated to average approximately 30 minutes per respondent completing the survey.

Respondents: The respondents will be consumers across the United States.

Estimated Number of Respondents: Up to 3,000 respondents completing the survey. This is based on a 30% response rate from a total of 10,000 sampled consumers.

Estimated Total Annual Burden on Respondents: Up to 2,000 hours (inclusive of completed responses and contacts).

Comments: Comments are invited on (a) whether the proposed collection of information is necessary for the proper performance of the functions of ERS, including whether the information will have practical utility; (b) the accuracy of ERS's estimate of the burden of the proposed collection of information; (c) ways to enhance the quality, use, and clarity of the information for respondents, including through the use of automated collection techniques or other forms of information technology; and (d) ways to minimize the burden of the collection of information on those who are to respond, including through the use of appropriate automated, electronic, mechanical, or other technological collection techniques or other forms of information technology.

Spiro Stefanou,
Administrator, Economic Research Service, United States Department of Agriculture.

[FR Doc. 2024-06598 Filed 3-27-24; 8:45 am]

BILLING CODE 3410-18-P